RAILROAD RETIREMENT BOARD

Proposed Collection; Comment Request

Summary: In accordance with the requirement of Section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Application for Survivor Death Benefits; OMB 3220-0031.

Under Section 6 of the Railroad Retirement Act (RRA), lump-sum death benefits are payable to surviving widow(er)s, children, and certain other dependents. Lump-sum death benefits are payable after the death of a railroad employee only if there are no qualified survivors of the employee immediately eligible for annuities. With the exception of the residual death benefit, eligibility for survivor benefits depends on whether the deceased employee was “insured” under the RRA at the time of death. If the deceased employee was not insured, jurisdiction of any survivor benefits payable is transferred to the Social Security Administration and survivor benefits are paid by that agency instead of the RRB. The requirements for applying for benefits are prescribed in 20 CFR 217, 219, and 234.

The collection obtains the information required by the RRB to determine entitlement to and amount of the survivor death benefits applied for. To collect the information, the RRB uses Forms AA-21, Application for Lump-Sum Death Payment and Annuities Unpaid at Death; AA-21cert, Application Summary and Certification; G-131, Authorization of Payment and Release of All Claims to a Death Benefit or Accrued Annuity Payment; and G-273a, Funeral Director's Statement of Burial Charges. One response is requested of each respondent. Completion is required to obtain benefits.

The RRB proposes the following changes to Forms AA-21, AA-21cert, and G-273a:

• Forms AA-21 and AA-21cert—Update the fraud language in the Certification statement to make it consistent with other RRB applications;

• Form G-273a—Add clarifying language above Item 10 to inform a funeral home when to file for a lump-sum death benefit.

The RRB proposes no changes to Form G-131.

Estimate of Annual Respondent Burden
Form No. | Annual responses | Time (minutes) | Burden (hours)
AA-21cert with assistance | 3,500 | 20 | 1,167
AA-21 without assistance | 200 | 40 | 133
G-131 | 100 | 5 | 8
G-273a | 4,000 | 10 | 667
Total | 7,800 |  | 1,975

Additional Information or Comments: To request more information or to obtain a copy of the information collection justification, forms, and/or supporting material, contact Brian Foster at (312) 751-4826 or Brian.Foster@rrb.gov. Comments regarding the information collection should be addressed to Brian Foster, Railroad Retirement Board, 844 North Rush Street, Chicago, Illinois 60611-1275 or emailed to Brian.Foster@rrb.gov. Written comments should be received within 60 days of this notice.

Brian Foster,
Clearance Officer.

[FR Doc. 2018-26124 Filed 11-30-18; 8:45 am]

BILLING CODE 7905-01-P